DEPARTMENT OF THE INTERIOR

National Park Service

Notice of Inventory Completion: The Colorado College, Colorado Springs, CO; Correction

AGENCY: National Park Service, Interior.

ACTION: Notice.

Notice is here given in accordance with the Native American Graves Protection and Repatriation Act (NAGPRA), 25 U.S.C. 3003, of the completion of an inventory of human remains and associated funerary objects under the control of The Colorado College, Colorado Springs, CO. The human remains and associated funerary objects were removed from Canyon de Chelly, Apache County, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the minimum number of individuals and associated funerary objects in a Notice of Inventory Completion previously published in the Federal Register (72 FR 19920, April 14, 2004), and replaces it in its entirety with the following:

A detailed assessment of the human remains was made by The Colorado College professional staff in consultation with representatives of the Hopi Tribe of Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico.

In 1897-1898, human remains representing 11 individuals were removed from a cliff ruin in Chinlee Canon (a.k.a. Canyon de Chelly), Apache County, AZ, under the auspices of the C.B. Lang Expedition of 1897-1898. Prior to 1900, General William Jackson Palmer acquired what became known as the Lang-Bixby Collection, which he subsequently transferred to The Colorado College. After the museum was disbanded, the human remains were transferred to the College's Anthropology Department. The associated funerary objects that were not in direct contact with the human remains were transferred to the Colorado Springs Fine Arts Center (CSFAC) (formerly the Taylor Museum). A permanent loan agreement with the CSFAC is dated 1986. The six associated funerary objects are a cotton robe or blanket, which may also include feathers, that encases the human remains of a naturally mummified infant; two fragments of cotton cloth believed to have been a part of the robe or blanket; a yucca basket; a piece of bark; and one lot of cotton fabric identified at the time of collection as resembling a lamp wick; all of the funerary objects are associated with the human remains of a naturally mummified infant.

A physical anthropological assessment of the human remains resulted in a determination that the human remains are ancestral Puebloan based on the type of cranial deformation. This determination is supported by the funerary objects associated with one of the individuals, as well as the provenience.

In 1897-1898, human remains representing two individuals were removed from Chinlee Canon (a.k.a. Canyon de Chelly), Apache County, AZ, under the auspices of the C.B. Lang Expedition of 1897-1898. Prior to 1900, General William Jackson Palmer acquired what became known as the Lang-Bixby Collection, which he subsequently transferred to The Colorado College. After the museum was disbanded, the human remains were transferred to the College's Anthropology Department. No known individuals were identified. No associated funerary objects are present.

Canyon de Chelly, which is also known as Chinlee Canon, was a site of ancestral Puebloan occupation. Currently, the site is within the Navajo Indian Reservation. The Colorado College has determined that the lands from which the human remains and associated funerary objects were collected were not Federal lands at the time of collection.

A relationship of shared group identity can reasonably be traced between ancestral Puebloan and modern Puebloan peoples based on oral tradition, folklore, and scientific studies. According to scientific studies and oral tradition the Navajo share some cultural practices with modern Puebloans. A preponderance of evidence supports cultural affiliation with modern Puebloan groups. There is not a preponderance of evidence to support Navajo cultural affiliation.

Officials of The Colorado College have determined that, pursuant to 25 U.S.C. 3001 (9-10), the human remains described above represent the physical remains of 13 individuals of Native American ancestry. Officials of The Colorado College also have determined that, pursuant to 25 U.S.C. 3001 (3)(A), the six objects described above are reasonably believed to have been placed with or near individual human remains at the time of death or later as part of the death rite or ceremony. Lastly, officials of The Colorado College have determined that, pursuant to 25 U.S.C. 3001 (2), there is a relationship of shared group identity that can be reasonably traced between the Native American human remains and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico.

Representatives of any other Indian tribe that believes itself to be culturally affiliated with the human remains and associated funerary objects should contact Chris Melcher, Legal Counsel/Director of Business, The Colorado College c/o Jan Bernstein, President, Bernstein & Associates—NAGPRA Consultants, 1041 Lafayette St., Denver, CO 80218, telephone (303) 894-0648, janbernstein@nagpra.info, before October 26, 2009. Repatriation of the human remains and associated funerary objects to the Hopi Tribe of Arizona may proceed after that date if no additional claimants come forward.

The Colorado College is responsible for notifying the Hopi Tribe of Arizona; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico that this notice has been published.

Dated: August 17, 2009.
Sherry Hutt,
Manager, National NAGPRA Program.

[FR Doc. E9-23102 Filed 9-23-09; 8:45 am]

BILLING CODE 4312-50-S